DEPARTMENT OF ENERGY

Federal Energy Regulatory Commission

[Docket No. ER00-3247-000]

Commonwealth Edison Company; Commonwealth Edison Company of Indiana; Notice of Filing

August 9, 2000.

Take notice that on July 24, 2000, Commonwealth Edison Company and Commonwealth Edison Company of Indiana (collectively ComEd), tendered filing to amend ComEd's Power Sales and Reassignment of Transmission Rights Tariff (PSRT-1) to include the costs of modifying generator maintenance schedules 10, Emergency Redispatch Service, and Schedule 11, Third-Party Redispatch Service. These proposals would expand the potential redispatch options available under Schedules 10 and 11 of ComEd's PSRT-1).

ComEd requests an effective date of September 22, 2000.

Copies of the filing were served upon the ComEd's jurisdictional customers and interested state Commissions.

Any person desiring to be heard or to protest such filing should file a motion to intervene or protest with the Federal Energy Regulatory Commission, 888 First Street, NE., Washington, DC 20426, in accordance with Rules 211 and 214 of the Commission's Rules and Practice and Procedure (18 CFR 385.211 and 385.214). All such motions and protests should be filed on or before August 21, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-20633 Filed 8-14-00; 8:45 am]

BILLING CODE 6717-01-M